ENVIRONMENTAL PROTECTION AGENCY

40 CFR Chapter I

[EPA-HQ-OPP-2010-0197; FRL-8880-7]

RIN 2070-ZA11

Pesticides; Policies Concerning Products Containing Nanoscale Materials; Opportunity for Public Comment; Extension of Comment Period

AGENCY: Environmental Protection Agency (EPA).

ACTION: Proposed policy statement; extension of comment period.

SUMMARY: EPA issued a proposed policy statement in the Federal Register of June 17, 2011, concerning possible approaches for obtaining information about what nanoscale materials are present in registered pesticide products. This document extends the comment period for 30 days, from July 18, 2011, to August 17, 2011.

DATES: Comments, identified by docket identification (ID) number EPA-HQ-OPP-2010-0197, must be received on or before August 17, 2011.

ADDRESSES: Follow the detailed instructions as provided under ADDRESSES in the Federal Register document of Friday, June 17, 2011.

FOR FURTHER INFORMATION CONTACT: Jed Costanza, Antimicrobials Division, Office of Pesticide Programs, Environmental Protection Agency, 1200 Pennsylvania Ave., NW., Washington, DC 20460-0001; telephone number: (703) 347-0204; fax number: (703) 308-8005; e-mail address: costanza.jed@epa.gov.

SUPPLEMENTARY INFORMATION: This document extends the public comment period established in the Federal Register of June 17, 2011 (76 FR 35383) (FRL-8877-9). In that document, EPA sought comment on several possible approaches for obtaining information about what nanoscale materials are present in registered pesticide products. Four requests for a 30-day extension of the comment period were submitted by CropLife America, the Biocides Panel of the American Chemical Council, the Chemical Producers & Distributors Association, and the International Center for Technology Assessment. These requests are in docket EPA-HQ-OPP-2010-0197, accessible via http://www.regulations.gov. EPA is hereby extending the comment period, which was set to end on July 18, 2011, to August 17, 2011.

To submit comments, or access the docket, please follow the detailed instructions as provided under ADDRESSES in the June 17, 2011 Federal Register document. If you have questions, consult the person listed under FOR FURTHER INFORMATION CONTACT.

List of Subjects

Environmental protection, Administrative practice and procedure, Nanotechnology, Pesticides and pests.

Dated: July 6, 2011.
William R. Diamond,
Acting Assistant Administrator, Office of Chemical Safety and Pollution Prevention.

[FR Doc. 2011-17464 Filed 7-12-11; 8:45 am]

BILLING CODE 6560-50-P